ENVIRONMENTAL PROTECTION AGENCY

40 CFR Part 300

[EPA-HQ-SFUND-2000-0003; FRL-9465-5]

National Oil and Hazardous Substances Pollution Contingency Plan; National Priorities List

AGENCY: Environmental Protection Agency.

ACTION: Withdrawal of direct final rule.

SUMMARY: On July 29, 2011, the Environmental Protection Agency (EPA) published a Notice of Intent to Delete and a Direct Notice of Deletion for the Palmer Barge Line (PBL) Superfund Site from the National Priorities List. The EPA is withdrawing the Final Direct Notice of Deletion because the deletion notices were published in the Federal Register without Headquarter's concurrence as required under the Comprehensive Environmental Response, Compensation, and Liability Act Delegation of Authority.

DATES: Effective Date: This withdrawal of the direct final action (76 FR 45432) is effective as of September 16, 2011.

ADDRESSES: Information Repositories: Comprehensive information on the PBL Superfund Site, as well as the comments that we received during the comment period, are available in Docket EPA-HQ-SFUND-2000-0003, accessed through the http://www.regulations.gov Web site. Although listed in the docket index, some information is not publicly available (e.g., CBI or other information whose disclosure is restricted by statute). Certain other material, such as copyrighted material, will be publicly available only in hard copy. Publicly available docket materials are available either electronically in http://www.regulations.gov or in hard copy at:

1. U.S. Environmental Protection Agency, Region 6; 1445 Ross Avenue, Suite 700; Dallas, Texas 75202-2733; Hours of operation: Monday thru Friday, 9 a.m. to 12 p.m. and 1 p.m. to 4 p.m.. Contact: Rafael A. Casanova (214) 665-7437.

2. Port Arthur Public Library; 4615 9th Avenue; Port Arthur, Texas 77642-5799; Hours of operation: Monday thru Thursday, 9 a.m. to 9 p.m.; Friday, 9 a.m. to 6 p.m.; Saturday, 9 a.m. to 5 p.m.; and Sunday, 2 p.m. to 5 p.m.

FOR FURTHER INFORMATION CONTACT: Rafael A. Casanova, Remedial Project Manager; U.S. Environmental Protection Agency, Region 6; Superfund Division (6SF-RA); 1445 Ross Avenue, Suite 1200; Dallas, Texas 75202-2733; telephone number: (214) 665-7437; e-mail: casanova.rafael@epa.gov.

SUPPLEMENTARY INFORMATION:

List of Subjects in 40 CFR Part 300

Environmental protection, Air pollution control, Chemicals, Hazardous waste, Hazardous substances, Intergovernmental relations, Penalties, Reporting and recordkeeping requirements, Superfund, Water pollution control, Water supply.

Authority: 33 U.S.C. 1321(c)(2); 42 U.S.C. 9601-9657; E.O. 12777, 56 FR 54757, 3 CFR, 1991 Comp., p. 351; E.O. 12580, 52 FR 2923; 3 CFR, 1987 Comp., p. 193.

Dated: September 6, 2011.
Al Armendariz,
Regional Administrator, Region 6.

Accordingly, the amendment to Table 1 of Appendix B to CFR part 300 to remove the entry “Palmer Barge Line Superfund Site,” “Port Arthur, Texas,” is withdrawn as of September 16, 2011.

[FR Doc. 2011-23870 Filed 9-15-11; 8:45 am]

BILLING CODE 6560-50-P